DEPARTMENT OF LABOR

Employment and Training Administration

[TA-W-75,017]

Nokia, Inc.; a Subsidiary of Nokia Group; Including On-Site Leased Workers From ATC Logistics and Electronics and Adecco Fort Worth, TX; Amended Certification Regarding Eligibility To Apply for Worker Adjustment Assistance

In accordance with Section 223 of the Trade Act of 1974, as amended (“Act”), 19 U.S.C. 2273, the Department of Labor issued a Certification of Eligibility to Apply for Worker Adjustment Assistance on February 15, 2011, applicable to workers of Nokia, Inc., a subsidiary of Nokia Group, including on-site leased workers from ATC Logistics and Electronics, Fort Worth, Texas. The workers supplied planning and materials management for distribution of cell phone equipment. The notice was published in the Federal Register on March 10, 2011 (76 FR 13229).

At the request of a State agency, the Department reviewed the certification for workers of the subject firm. The company reports that workers leased from Adecco were employed on-site at the Fort Worth, Texas location of Nokia, Inc., a subsidiary of Nokia Group. The Department has determined that these workers were sufficiently under the control of Nokia, Inc., a subsidiary of Nokia Group to be considered leased workers.

Based on these findings, the Department is amending this certification to include workers leased from Adecco working on-site at the Fort Worth, Texas location of Nokia, Inc., a subsidiary of Nokia Group.

The amended notice applicable to TA-W-75,017 is hereby issued as follows:

All workers of Nokia, Inc., a subsidiary of Nokia Group, including on-site leased workers from ATC Logistics and Electronics, and Adecco, Fort Worth, Texas, who became totally or partially separated from employment on or after December 17, 2009, through February 15, 2013, and all workers in the group threatened with total or partial separation from employment on the date of certification through two years from the date of certification, are eligible to apply for adjustment assistance under Chapter 2 of Title II of the Trade Act of 1974, as amended.

Signed at Washington, DC, this 26th day of May 2011.
Michael W. Jaffe,
Certifying Officer, Office of Trade Adjustment Assistance.

[FR Doc. 2011-14821 Filed 6-14-11; 8:45 am]

BILLING CODE 4510-FN-P